EQUAL EMPLOYMENT OPPORTUNITY COMMISSION

29 CFR Part 1603

RIN 3046-AA83

Procedures for Previously Exempt State and Local Government Employee Complaints of Employment Discrimination Under Section 304 of the Government Employee Rights Act of 1991; Revision

AGENCY: Equal Employment Opportunity Commission.

ACTION: Final rule.

SUMMARY: This document contains revisions to the final regulations which were published in the Federal Register of Thursday, April 10, 1997 (62 FR 17543). The regulations pertain to the procedures by which state and local government employees previously exempt from maintaining claims of employment discrimination can pursue such claims.

DATES: Effective on February 7, 2007.

FOR FURTHER INFORMATION CONTACT: Thomas J. Schlageter, Assistant Legal Counsel, or Gary John Hozempa, Senior General Attorney, at (202) 663-4669 (voice) or (202) 663-7026 (TTY). This document also is available in the following alternative formats: large print, braille, audiotape and electronic file on computer disk. Requests for the final rule in an alternative format should be made to the Equal Employment Opportunity Commission's (EEOC) Publication Center at 1-800-669-3362 (voice), 1-800-800-3302 (TTY), or 703-821-2098 (FAX—this is not a toll free number).

SUPPLEMENTARY INFORMATION:

Background

Prior to the passage of the Government Employees Rights Act of 1991 (GERA), certain state and local government employees and applicants did not enjoy Federal protection against employment discrimination based on race, color, religion, sex, national origin, age, or disability. In affording these individuals new equal employment opportunity protections, GERA introduced an administrative enforcement mechanism different from EEOC's pre-existing charge resolution procedures. Consequently, EEOC created procedures for handling complaints brought by individuals covered by GERA. These procedures are found in 29 CFR Part 1603.

When 29 CFR Part 1603 was published initially, the legal citation for GERA was 2 U.S.C. 1201 et seq. and that part of GERA applicable to previously exempt state and local employees was 2 U.S.C. 1220. Due to a re-codification and transfer, the citations for GERA have been changed to 42 U.S.C. 2000e-16a et seq. and 42 U.S.C. 2000e-16c, respectively. Similarly, in accordance with an amendment to GERA, section 321 was renumbered as section 304.

Need for Revision

As published, the final regulations contain obsolete legal citations which need to be updated.

List of Subjects in 29 CFR Part 1603

Administrative practice and procedure, Equal employment opportunity, Intergovernmental relations, Investigations, State and local governments.

For the Commission.

Dated: January 24, 2007.
Naomi C. Earp,
Chair.

Accordingly, 29 CFR part 1603 is amended to read as follows:

PART 1603—PROCEDURES FOR PREVIOUSLY EXEMPT STATE AND LOCAL GOVERNMENT EMPLOYEE COMPLAINTS OF EMPLOYMENT DISCRIMINATION UNDER SECTION 304 OF THE GOVERNMENT EMPLOYEE RIGHTS ACT OF 1991

1. The authority citation for part 1603 is revised to read as follows:

Authority: 42 U.S.C. 2000e-16c.

2. The heading to part 1603 is revised to read as set forth above.

§ 1603.100 [Amended]

3. Amend § 1603.100 to read as follows:

a. Remove “321” and add in its place “304.”

b. Remove “2 U.S.C. 1220” and add in its place “42 U.S.C. 2000e-16c.”

§ 1603.101 [Amended]

4. Amend § 1603.101, introductory text, by removing “321” and adding in its place “304.”

[FR Doc. E7-1932 Filed 2-6-07; 8:45 am]

BILLING CODE 6570-01-P